DEPARTMENT OF COMMERCE

National Oceanic and Atmospheric Administration

Gulf of Mexico Fishery Management Council; Public Meetings

AGENCY: National Marine Fisheries Service (NMFS), National Oceanic and Atmospheric Administration (NOAA), Commerce.

ACTION: Council to convene public meetings.

SUMMARY: The Gulf of Mexico Fishery Management Council will convene three web based meetings of the ABC Control Rule Working Group.

DATES: The first webinar meeting will convene on Tuesday, July 31, 2012. The webinar will begin at 9 a.m. and is expected end by 12 noon eastern time.

ADDRESSES: The webinars will be accessible via Internet. Please go to the Gulf of Mexico Fishery Management Council's Web site at www.gulfcouncil.org for instructions.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The ABC Control Rule Working Group will meet to review an alternative method of assigning appropriate risk of overfishing levels to stocks based on the status, productivity, susceptibility and resiliency of the stock. The working group will also review its previous recommendations for revisions to the ABC control rule and evaluate other possible revisions.

Copies of the agenda and other related materials can be obtained by calling (813) 348-1630. Materials will also be available to download from the ABC Control Rule Working Group folder of the Council's FTP site, which is accessible from the Quick Links section of the Council Web site (http://www.gulfcouncil.org).

Although other non-emergency issues not on the agenda may come before the ABC Control Rule Working Group for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This webinar is accessible to people with disabilities. For assistance with any of our webinars contact Kathy Pereira at the Council (see ADDRESSES) at least 5 working days prior to the webinar.

Dated: July 10, 2012.
Tracey L. Thompson,
Acting Deputy Director, Office of Sustainable Fisheries, National Marine Fisheries Service.

[FR Doc. 2012-17083 Filed 7-12-12; 8:45 am]

BILLING CODE 3510-22-P